NATIONAL SCIENCE FOUNDATION

Sunshine Act Meeting

SUMMARY: The National Science Board's Committee on Oversight (CO), pursuant to NSF regulations, the National Science Foundation Act, as amended, and the Government in the Sunshine Act, hereby gives notice of the scheduling of a teleconference for the transaction of National Science Board business, as follows:

DATES: Wednesday, July 1, 2020 at 2-4:30 p.m. EDT.

PLACE: This meeting will be held by videoconference through the National Science Foundation. An audio link will be available for the public. Members of the public must contact the Board Office to request the public audio link by sending an email to nationalsciencebrd@nsf.gov at least 24 hours prior to the teleconference.

STATUS: Open.

MATTERS TO BE CONSIDERED: (1) Chair's opening remarks and welcome of new committee members; (2) discussion of the 2019 Merit Review Digest draft, highlights of the biennial survey, and recent COV reports; (3) discussion of items to include in the Board's Overview; (4) discussion of future CO role regarding Broader Impacts; and (5) risks, including Enterprise Risk Management.

CONTACT PERSON FOR MORE INFORMATION: Point of contact for this meeting is: Ann Bushmiller (abushmil@nsf.gov), 703/292-7000. Request the public audio link by sending an email to nationalsciencebrd@nsf.gov at least 24 hours prior to the teleconference.

Meeting information and updates (time, place, subject matter or status of meeting) may be found at http://www.nsf.gov/nsb/meetings/notices.jsp#sunshine. Please refer to the National Science Board website www.nsf.gov/nsb for additional information.

Chris Blair,
Executive Assistant to the National Science Board Office.

[FR Doc. 2020-13938 Filed 6-24-20; 4:15 pm]

BILLING CODE 7555-01-P